DEPARTMENT OF THE INTERIOR

Bureau of Land Management

[AZ-310-1060-HI; AZA 33148]

Notice of Proposed Withdrawal and Opportunity for Public Meeting; Arizona

AGENCY: Bureau of Land Management, Interior.

ACTION: Notice.

SUMMARY: The Secretary of the Interior proposes to withdraw on behalf of the Bureau of Land Management (BLM) approximately 299.70 acres of public land for a period of 20 years to protect the Kingman Regional Wild Horse and Burro Facility in Mohave County, Arizona. This notice segregates the land for up to 2 years from location and entry under the United States mining laws.

DATES: Comments should be received on or before December 5, 2006.

ADDRESSES: Comments and meeting requests should be sent to the Kingman Field Office Manager, BLM, 2755 Mission Boulevard, Kingman, Arizona 86401.

FOR FURTHER INFORMATION CONTACT: Scott Elefritz, BLM Kingman Field Office, (928) 718-3720.

SUPPLEMENTARY INFORMATION: The applicant for the above withdrawal is the BLM at the address stated above. The petition/application requests the Secretary of the Interior to withdraw for a period of 20 years the following-described public land from location and entry under the United States mining laws, subject to valid existing rights:

Gila and Salt River Meridian

T. 20 N., R. 17 W.

Sec. 6, lots 2, 3, 4, 12, 13, 39, 42, and 44.

The area described contains 299.70 acres in Mohave County.

The BLM petition/application has been approved by the Assistant Secretary of the Interior. Therefore, it constitutes a withdrawal proposal of the Secretary of the Interior (43 CFR 2310.1-3(e)).

The use of a right-of-way or cooperative agreement would not adequately constrain non-discretionary uses and would not provide adequate protection of the Federal investment in the improvements located on the land.

There are no suitable alternative sites with equal or greater benefit to the government.

No water rights would be needed to fulfill the purpose of the requested withdrawal.

The preliminary mineral potential evaluation found the above described lands to have a low potential for locatable minerals.

The purpose of the proposed withdrawal would be to protect the proposed Federal investment in the BLM's Kingman Regional Wild Horse and Burro Facility.

For a period of 90 days from the date of publication of this notice, all persons who wish to submit comments, suggestions, or objections in connection with the proposed withdrawal may present their views in writing, by the date specified above, to the BLM Kingman Field Office Manager.

Records relating to the application as well as comments, including names and street addresses of respondents, will be available for public review at the BLM Kingman Field Office, 2755 Mission Boulevard, Kingman, Arizona, during regular business hours, 7:30 a.m. to 4:30 p.m., Monday through Friday, except holidays. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the BLM Kingman Field Office Manager.

The withdrawal proposal will be processed in accordance with the regulations set forth in 43 CFR part 2300.

For a period of 2 years from the date of publication of this notice in the Federal Register, the land will be segregated as specified above unless the application is denied or canceled or the withdrawal is approved prior to that date. The temporary land uses which may be permitted during this segregative period include licenses, permits, rights-of-ways, and disposal of vegetative resources other than under the mining laws.

(Authority: 43 CFR 2310.3-1)

Dated: August 25, 2006.
Michael A. Taylor,
Deputy State Director, Resources.

[FR Doc. E6-14672 Filed 9-5-06; 8:45 am]

BILLING CODE 4310-32-P